DEPARTMENT OF STATE

[Public Notice: 12339]

Designation of Ansarallah as a Specially Designated Global Terrorist

Acting under the authority of and in accordance with section 1(a)(ii)(A) of Executive Order 13224, as amended (“E.O. 13224” or “Order”), I hereby determine that the person known as Ansarallah (also known as Ansar Allah, Ansarullah, Partisans of God, Supporters of God, and Houthi group) is a foreign person who has committed or attempted to commit, poses a significant risk of committing, or has participated in training to commit, acts of terrorism that threaten the security of U.S. nationals or the national security, foreign policy, or economy of the United States.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

The designation goes into effect on February 16, 2024. This notice shall be published in the Federal Register.

Dated: January 12, 2024.
Antony J. Blinken,
Secretary of State.

[FR Doc. 2024-04065 Filed 2-27-24; 8:45 am]

BILLING CODE 4710-AD-P